FEDERAL MINE SAFETY AND HEALTH REVIEW COMMISSION

Sunshine Act Meetings

TIME AND DATE: 1 p.m., Wednesday, October 16, 2024.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider a personnel matter. Commissioners will attend the meeting. Staff members who provide technological support may also be present as necessary. This meeting is closed to the public pursuant to 5 U.S.C. 552b(c)(6) in order to protect the privacy interests of personnel involved in the action under consideration. The Commission determined that shorter than usual notice for a meeting was required by official agency business.

CONTACT PERSON FOR MORE INFORMATION: Sarah Stewart (202) 434-9935/(202) 708-9300 for TDD Relay/1-800-877-8339 for toll free.

Authority: 5 U.S.C. 552b.

Dated: October 11, 2024.
Sarah L. Stewart,
Deputy General Counsel.

[FR Doc. 2024-23938 Filed 10-11-24; 4:15 pm]

BILLING CODE 6735-01-P